DEPARTMENT OF COMMERCE

Bureau of Industry and Security

Information Systems Technical Advisory Committee; Notice of Partially Closed Meeting

The Information Systems Technical Advisory Committee (ISTAC) will meet on November 17 and 18, 2004, 9 a.m., in the Herbert C. Hoover Building, Room 3884, 14th Street between Pennsylvania Avenue and Constitution Avenue, NW., Washington, DC. The Committee advises the Office of the Assistant Secretary for Export Administration on technical questions that affect the level of export controls applicable to information systems equipment and technology.

November 17

Public Session

1. Opening remarks and introductions.

2. Comments or presentations by the public.

3. Update on Bureau of Industry and Security programs and activities.

4. Discussion on current state of encryption technology.

5. Presentation on Dynamic Adaptive Routing.

6. Presentation on Radio Frequency/Microwave devices.

7. Discussion on deemed export and microprocessor controls.

8. Discussion on plans for Fiscal Year 2005.

November 17-18

Closed Session

9. Discussion of matters determined to be exempt from the provisions relating to public meetings found in 5 U.S.C. app. 2 sections 10(a)(1) and 10(a)(3).

A limited number of seats will be available for the public session. Reservations are not accepted. To the extent time permits, members of the public may present oral statements to the Committee. The public may submit written statements at any time before or after the meeting. However, to facilitate distribution of public presentation materials to Committee members, the Committee suggests that public presentation materials or comments be forwarded before the meeting to Ms. Lee Ann Carpenter at Lcarpent@bis.doc.gov.

The Assistant Secretary for Administration, with the concurrence of the delegate of the General Counsel, formally determined on October 18, 2004, pursuant to Section 10(d) of the Federal Advisory Committee Act, as amended (5 U.S.C. app. 2 section (10)(d))), that the portion of the meeting dealing with trade secrets and commercial or financial information deemed privileged or confidential as described in 5 U.S.C. 552b(c)(4) and the portion of the meeting dealing with matters the disclosure of which would be likely to frustrate significantly implementation of an agency action as described in 5 U.S.C. 552b(c)(9)(B) shall be exempt from the provisions relating to public meetings found in 5 U.S.C. app. 2 sections 10(a)1 and 120(a)(3).

The remaining portions of the meeting will be open to the public. For more information, call Lee Ann Carpenter at (202) 482-2583.

Dated: October 27, 2004.
Lee Ann Carpenter,
Committee Liaison Officer.

[FR Doc. 04-24338 Filed 10-29-04; 8:45 am]

BILLING CODE 3510-JT-M